COMMITTEE FOR THE IMPLEMENTATION OF TEXTILE AGREEMENTS

Determination under the Textile and Apparel Commercial Availability Provision of the Dominican Republic-Central America-United States Free Trade Agreement (CAFTA-DR Agreement)

November 2, 2007.

AGENCY: The Committee for the Implementation of Textile Agreements (CITA).

ACTION: Determination to add a product in unrestricted quantities to Annex 3.25 of the CAFTA-DR Agreement.

EFFECTIVE DATE: November 8, 2007.

SUMMARY: The Committee for the Implementation of Textile Agreements (CITA) has determined that certain three-thread circular knit fleece fabrics, as specified below, are not available in commercial quantities in a timely manner in the CAFTA-DR region. The product will be added to the list in Annex 3.25 of the CAFTA-DR in unrestricted quantities.

FOR FURTHER INFORMATION CONTACT: Richard Stetson, Office of Textiles and Apparel, U.S. Department of Commerce, (202) 482-2582.

FOR FURTHER INFORMATION ON-LINE: http://web.ita.doc.gov/tacgi/ CaftaReqTrack.nsf.Reference number: 36.2007.09.20.Fabric.Alston&Birdfor PerryManufacturing

SUPPLEMENTARYINFORMATION:

Authority: Section 203(o)(4) of the Dominican Republic-Central America-United States Free Trade Agreement Implementation Act (CAFTA-DR Act); the Statement of Administrative Action (SAA), accompanying the CAFTA-DR Act; Presidential Proclamations 7987 (February 28, 2006) and 7996 (March 31, 2006).

BACKGROUND:

The CAFTA-DR Agreement provides a list in Annex 3.25 for fabrics, yarns, and fibers that the Parties to the CAFTA-DR Agreement have determined are not available in commercial quantities in a timely manner in the territory of any Party. Articles that otherwise meet the rule of origin to qualify for preferential treatment are not disqualified because they contain one of the products on the Annex 3.25 list.

The CAFTA-DR Agreement provides that the list in Annex 3.25 may be modified pursuant to Article 3.25(4)-(5) when the President of the United States determines that a fabric, yarn, or fiber is not available in commercial quantities in a timely manner in the territory of any Party. See also section 203(o)(4)(C) of the CAFTA-DR Act.

The CAFTA-DR Act requires the President to establish procedures governing the submission of a request and providing an opportunity for interested entities to submit comments and supporting evidence before a commercial availability determination is made. In Presidential Proclamations 7987 and 7996, the President delegated to CITA the authority under section 203(o)(4) of CAFTA-DR Act for modifying the Annex 3.25 list. On March 21, 2007, CITA published final procedures it would follow in considering requests to modify the Annex 3.25 list (72 FR 13256).

On September 20, 2007, the Chairman of CITA received a request from Alston & Bird, LLP on behalf of Perry Manufacturing Company for certain three-thread circular knit fleece fabrics, of the specifications detailed below. On September 24, 2007, CITA notified interested parties of, and posted on its website, the accepted request and asked that interested entities provide, by October 4, 2007, a response advising of its objection to the request or its ability to supply the subject product, and rebuttals to responses by October 11, 2007.

On October 1, 2007, Texpasa, S.A. (“Texpasa”) advised CITA of its objection to the request, explaining its ability to supply the fabrics listed in the request. On October 3, 2007, Elasticos Centro Americanos y Textiles (“Elcatex”) advised CITA of its objection to the request by submitting a response with an offer to supply certain fabrics.

In its rebuttal submitted on October 10, 2007, Perry asserted that neither Texpasa's nor Elcatex'responses were sufficient. In the case of Texpasa, Perry claimed that it was concerned that Tepasa cannot supply the required quantity of fabric. With respect to Elcatex, Perry stated that the fabric Elcatex offered to supply did not meet Perry's specifications. As a result, Perry asserted that Elcatex could not supply the fabrics in question.

On October 15, 2007, in accordance with Section 203(o)(4)(C)(iv) of the CAFTA-DR Implementation Act and section 8(c)(4) of CITA's procedures, because there was insufficient information to make a determination after 30 days, CITA extended the period for making a determination by 14 U.S. business days.

On October 23 and 24, 2007, respectively, Texpasa and Elcatex advised CITA that they were withdrawing their responses to Perry's request.

In accordance with Section 203(o)(4)(C)(iii)(II) of the CAFTA-DR Act, and its procedures, as the two entities who objected to the request both withdrew their objections, and because no other interested entity submitted a response advising CITA of its objection to the request or its ability to supply the subject product, CITA has determined to add the specified fabrics to the list in Annex 3.25 of the CAFTA-DR Agreement.

The subject fabrics are added to the list in Annex 3.25 of the CAFTA-DR Agreement in unrestricted quantities. A revised list has been published on-line.

Specifications:

HTS Subheading: | 6001.21.0000
Fabric #1: |
Fiber Content: | 72 to 78 percent cotton, 22 to 28 percent polyester
Yarn: |
| Face Yarn - Single ply, ring spun cotton. Metric yarn number: 41 to 48; English yarn number: 24 to 28
| Tie Yarn - Polyester filament of 49 to 51denier
| Fleece yarn - Single ply staple of 57 to 63 percent cotton and 37 to 43 percent polyester. Metric yarn number: 24 to 30; English yarn number 14 to 18.
Gauge: | 20 to 24
Knit Type: | Three-thread circular knit
Weight: | Metric - 285 to 300 grams per square meter; English - 8.42 to 9.75 ounces per square yard.
Width: | Metric - 172 to 183 centimeters; English - 68 to 72 inches.
Finish: | Napped on the technical back; bleached, yarn dyed, or piece dyed.
Performance Criteria: | Not more than 5 percent vertical and horizontal shrinkage and not more than 4 percent vertical torque.

Fabric #2: |
Fiber Content: | 77 to 83 percent cotton, 17 to 23 percent polyester
Yarn: |
| Face Yarn - Single ply, ring spun cotton. Metric yarn number: 47 to 54; English yarn number: 28 to 32
| Tie Yarn - Polyester filament of 49 to 51denier
| Fleece yarn - Single ply staple of 67 to 73 percent cotton and 27 to 33 percent polyester. Metric yarn number: 24 to 30; English yarn number 14 to 18.
Gauge: | 20 to 24
Knit Type: | Three-thread circular knit
Weight: | Metric - 266 to 308 grams per square meter; English - 7.85 to 9.08 ounces per square yard.
Width: | Metric - 146 to 183 centimeters; English - 58 to 72 inches.
Finish: | Napped on the technical back; bleached, yarn dyed, or piece dyed.
Performance Criteria: | Not more than 5 percent vertical and horizontal shrinkage and not more than 4 percent vertical torque.

R. Matthew Priest,
Chairman, Committee for the Implementation of Textile Agreements.

[FR Doc. E7-21950 Filed 11-7-07; 8:45 am]

BILLING CODE 3510-DS